DEPARTMENT OF THE TREASURY

Submission for OMB Review; Comment Request

November 20, 2008.

The Department of Treasury will submit following public information collection request to OMB for review and clearance under the Paperwork Reduction Act of 1995, Public Law 104-13. Copies of the submission(s) may be obtained by contacting the Treasury clearance officer listed. Comments regarding this information collection should be addressed to the OMB reviewer listed and to the Treasury Department Clearance Officer, Department of the Treasury, Room 11020, 1750 Pennsylvania Avenue, NW., Washington, DC 20220.

DATES: Written comments should be received on or before December 26, 2008 to be assured of consideration.

OMB Number: 1505-0195.

Type of Review: Extension.

Title: Race and National Origin Identification.

Description: This form will be used to collect applicant race and national origin information through the online application system. The data will be used to help Treasury Bureaus and Departmental Offices identify barriers to selection and determine the demographics of the overall applicant pool.

Respondents: Individuals.

Estimated Total Reporting Burden: 8,000 hours.

Clearance Officer: Joann Sokol, Human Resources, 202-622-0814, 1750 Pennsylvania Avenue, Washington, DC 20220.

OMB Reviewer: Nick Fraser (202) 395-5887, Office of Management and Budget, Room 10235, New Executive Office Building, Washington, DC 20503.

Robert Dahl,
Treasury PRA Clearance Officer.

[FR Doc. E8-28082 Filed 11-25-08; 8:45 am]

BILLING CODE 4810-25-P